ENVIRONMENTAL PROTECTION AGENCY

[EPA-HQ-OPP-2025-0027; FRL-12988-01-OCSPP]

SRC, Inc.; Access of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will provide access to SRC, Inc., in accordance with the CBI regulations. SRC, Inc., has been awarded multiple contracts to perform work for OPP, and access to this information will enable SRC, Inc., to fulfill the obligations of the contract.

DATES: SRC, Inc., will be given access to this information on or before January 20, 2026.

FOR FURTHER INFORMATION CONTACT: William Northern, Information Technology and Resources Management Division (7502P), Office of Pesticide Programs, Environmental Protection Agency, 1200 Pennsylvania Ave. NW, Washington, DC 20460-0001; telephone number: (202) 566-1493 email address: northern.william@epa.gov.

SUPPLEMENTARY INFORMATION:

I. General Information

A. Does this action apply to me?

This action applies to the public in general. As such, the Agency has not attempted to describe all the specific entities that may be affected by this action.

B. How can I get copies of this document and other related information?

The docket for this action, identified by docket identification (ID) number EPA-HQ-OPP-2025-0027, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at https://www.epa.gov/dockets.

II. Contractor Requirements

Under Contract No. 68HERC25D0001, this contract involves contractors, but they will not be handling FIFRA CBI under this task.

OPP has determined that the contract described in this document involves work that is being conducted in connection with FIFRA, in that pesticide chemicals will be the subject of certain evaluations to be made under this contract. These evaluations may be used in subsequent regulatory decisions under FIFRA. Pursuant to 40 CFR 2.307(h)(3), OPP has determined that disclosure to SRC, Inc., of information claimed as CBI is necessary in order for SRC, Inc., to carry out the work required by this contract.

Some of this information may be entitled to confidential treatment. The information has been submitted to EPA under FIFRA sections 3, 4, 6, and 7 and under FFDCA sections 408 and 409.

In accordance with the requirements of 40 CFR 2.307(h)(3), the contract with SRC, Inc., prohibits use of the information for any purpose not specified in this contract; prohibits disclosure of the information to a third party without prior written approval from the Agency; and requires that each official and employee of the contractor sign an agreement to protect the information from unauthorized release and to handle it in accordance with the FIFRA Information Security Manual. In addition, SRC, Inc., is required to submit for EPA approval a security plan under which any CBI will be secured and protected against unauthorized release or compromise. No information will be provided to SRC, Inc., until the requirements in this document have been fully satisfied. Records of information provided to SRC, Inc., will be maintained by EPA project officers for this contract. All information supplied to SRC, Inc., by EPA for use in connection with the contract will be returned to EPA when SRC, Inc., has completed its work.

Authority: 7 U.S.C. 136 et seq.; 21 U.S.C. 301 et seq.

Dated: January 8, 2026.
Randolph L. Hill,
Associate General Counsel.

[FR Doc. 2026-00635 Filed 1-14-26; 8:45 am]

BILLING CODE 6560-50-P